DEPARTMENT OF COMMERCE

International Trade Administration

[A-552-802]

Certain Frozen Warmwater Shrimp From the Socialist Republic of Vietnam: Preliminary Results of Antidumping Duty Administrative Review and Partial Rescission of Review; 2014-2015

AGENCY: Enforcement and Compliance, International Trade Administration, Department of Commerce.

SUMMARY: In response to requests from interested parties, the Department of Commerce (“Department”) is conducting an administrative review of the antidumping duty order on certain frozen warmwater shrimp from the Socialist Republic of Vietnam (“Vietnam”) for the period of review February 1, 2014, through January 31, 2015. The Department preliminarily determines that sales by the Minh Phu Group ¹ and Stapimex,² the two mandatory respondents, were made below normal value (“NV”). Interested parties are invited to comment on these preliminary results.³

¹ Minh Phu Seafood Corporation, Minh Qui Seafood Co., Ltd., Minh Phat Seafood Co., Ltd., and Minh Phu Hau Giang Seafood Joint Stock Company (collectively, the “Minh Phu Group”). The Department previously collapsed the companies within the Minh Phu Group in the ninth administrative review. See Certain Frozen Warmwater Shrimp From the Socialist Republic of Vietnam: Final Results of Antidumping Duty Administrative Review, 2013-2014, 80 FR 55328 (September 15, 2015). There have been no changes since the preceding administrative review regarding the corporate or legal structure of the companies within the Minh Phu Group. Thus, we continue to find that these companies are affiliated and comprise a single entity to which we will assign a single rate.

² Soc Trang Seafood Joint Stock Company (“Stapimex”).

³ Further, as explained in the memorandum from the Acting Assistant Secretary for Enforcement & Compliance, the Department has exercised its discretion to toll all administrative deadlines due to the recent closure of the Federal Government. All deadlines in this segment of the proceeding have been extended by four business days. The revised deadline for the preliminary results of this review is now March 4, 2016. See Memorandum to the Record, from Ron Lorentzen, Acting Assistant Secretary for Enforcement and Compliance, “Tolling of Administrative Deadlines as a Result of the Government Closure during Snowstorm Jonas,” dated January 27, 2016.

DATES: Effective: March 10, 2016.

FOR FURTHER INFORMATION CONTACT: Irene Gorelik or Robert Palmer, AD/CVD Operations, Office V, Enforcement and Compliance, International Trade Administration, Department of Commerce, 1401 Constitution Avenue NW, Washington, DC 20230; telephone: (202) 482-6905, or (202) 482-9068, respectively.

SUPPLEMENTARY INFORMATION:

Scope of the Order

The merchandise subject to the Order is certain frozen warmwater shrimp. The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description, available in the Preliminary Decision Memorandum, remains dispositive.⁴

⁴ For a complete description of the Scope of the Order, see Memorandum to Paul Piquado, Assistant Secretary for Enforcement and Compliance, from Christian Marsh, Deputy Assistant Secretary for Antidumping and Countervailing Duty Operations, titled “Decision Memorandum for Preliminary Results of Antidumping Duty Administrative Review: Certain Frozen Warmwater Shrimp from the Socialist Republic of Vietnam; 2014-2015,” dated concurrently with and adopted by this notice (“Preliminary Decision Memorandum”).

Methodology

The Department conducted this review in accordance with section 751(a)(1)(A) of the Tariff Act of 1930, as amended (“the Act”). Constructed export prices and export prices were calculated in accordance with section 772 of the Act. Because Vietnam is a nonmarket economy within the meaning of section 771(18) of the Act, NV was calculated in accordance with section 773(c) of the Act.

For a full description of the methodology underlying our conclusions, see Preliminary Decision Memorandum. The Preliminary Decision Memorandum is a public document and is on file electronically via the Enforcement and Compliance's Antidumping and Countervailing Duty Centralized Electronic Service System (“ACCESS”). ACCESS is available to registered users at http://access.trade.gov and in the Central Records Unit, room B8024 of the main Department of Commerce building. In addition, a complete version of the Preliminary Decision Memorandum can be accessed directly on the internet at http://enforcement.trade.gov/frn/. The signed Preliminary Decision Memorandum and the electronic versions of the Preliminary Decision Memorandum are identical in content.

Preliminary Determination of No Shipments

Based on our analysis of U.S. Customs and Border Protection (“CBP”) information and information provided by a number of companies, we preliminarily determine that 15 companies ⁵ did not have any reviewable transactions during the POR. In addition, the Department finds, consistent with its refinement to its assessment practice in non-market economy cases, that it is appropriate not to rescind the review in part in these circumstances, but to complete the review with respect to these 15 companies and issue appropriate instructions to CBP based on the final results of the review.⁶ For additional information regarding this determination, see the Preliminary Decision Memorandum.

⁵ These 15 companies are: (1) BIM Seafood Joint Stock Company; (2) Bien Dong Seafood Co., Ltd.; (3) Cafatex Fishery Joint Stock Corporation; (4) Camranh Seafoods Processing Enterprise Pte.; (5) Coastal Fisheries Development Corporation; (6) Bentre Forestry Aquaproduct Import-Export Joint Stock Company; (7) Fine Foods Co.; (8) Gallant Ocean (Vietnam) Co., Ltd.; (9) Long Toan Frozen Aquatic Products Joint Stock Company; (10) Nhat Duc Co., Ltd.; (11) Ngo Bros Seaproducts Import-Export One Member Company Limited; (12) Thong Thuan Seafood Company Limited; (13) Tacvan Seafoods Company; (14) Tan Phong Phu Seafood Co., Ltd.; and (15) Vinh Hoan Corporation.

⁶ See Non-Market Economy Antidumping Proceedings: Assessment of Antidumping Duties, 76 FR 65694 (October 24, 2011) (“Assessment Notice”); see also “Assessment Rates” section below.

Partial Rescission of Review

On July 2, 2015, both Petitioner and ASPA filed timely withdrawals of their review requests for Seavina Joint Stock Company.⁷ Pursuant to 19 CFR 351.213(d)(1), the Department will rescind an administrative review, in whole or in part, if the party that requested the review withdraws its request within 90 days of the date of publication of the notice of initiation of the requested review. Because both Petitioner and ASPA withdrew their requests for administrative review of Seavina Joint Stock Company within 90 days of the date of publication of the Initiation Notice, and no other interested party requested a review of this company, the Department is rescinding this review with respect to Seavina Joint Stock Company, in accordance with 19 CFR 351.213(d)(1).

⁷ See Petitioner's and ASPA's July 2, 2015, “Partial Withdrawal of Request for Review.”

Preliminary Results of Review

The Department finds that 51 companies for which a review was requested have not established eligibility for a separate rate and are considered to be part of the Vietnam-wide entity for these preliminary results.⁸ The Department's change in policy regarding conditional review of the Vietnam-wide entity applies to this administrative review.⁹ Under this policy, the Vietnam-wide entity will not be under review unless a party specifically requests, or the Department self-initiates, a review of the entity. Because no party requested a review of the Vietnam-wide entity, the entity is not under review and the entity's rate is not subject to change. For companies for which a review was requested and that have established eligibility for a separate rate, the Department preliminarily determines that the following weighted-average dumping margins exist:

⁸ See Appendix II for a full list of the 51 companies; see also Preliminary Decision Memorandum, at 12-13.

⁹ See Antidumping Proceedings: Announcement of Change in Department Practice for Respondent Selection in Antidumping Duty Proceedings and Conditional Review of the Nonmarket Economy Entity in NME Antidumping Duty Proceedings, 78 FR 65963 (November 4, 2013).

¹⁰ Due to the issues we have had in the past with variations of exporter names related to this Order, we remind exporters that the names listed in the rate box are the exact names, including spelling and punctuation which the Department will provide to CBP and which CBP will use to assess POR entries and collect cash deposits. See, e.g., Minh Phu Seafood Corporation's Separate Rate Certification dated May 4, 2015, at Attachment A, page 1, where Minh Phu Seafood Corporation stated that the initiated name of “Minh Phu Seafood Export Import Corporation (and affiliates Minh Qui Seafood Co. Ltd. and Minh Phat Seafood Co., Ltd.) and/or Minh Phu Seafood Export Import Corporation (and affiliates Minh Qui Seafood Co. Ltd. and Minh Phat Seafood Co., Ltd.) (collectively “Minh Phu Group”)” was requested for initiation as such by Petitioners but that “the company does not use this combined name.” Indeed, many of the names requested for review by Petitioners and ASPA are, in fact, non-existent combinations of company names.

Exporter ¹⁰ | Weighted-average margin (percent)
Minh Phu Group:
Minh Phu Seafood Corp., aka Minh Phu Seafood Corporation, aka Minh Qui Seafood Co., Ltd., aka Minh Phat Seafood Co., Ltd., aka Minh Phu Hau Giang Seafood Joint Stock Company | 2.86
Soc Trang Seafood Joint Stock Company, aka Stapimex | 4.78
Bac Lieu Fisheries Joint Stock Company | 3.56
C.P. Vietnam Corporation | 3.56
Cadovimex Seafood Import-Export and Processing Joint Stock Company | 3.56
Camau Frozen Seafood Processing Import Export Corporation, aka Camau Seafood Factory No. 4 | 3.56
Can Tho Import Export Fishery Limited Company | 3.56
Camau Seafood Processing and Service Joint Stock Corporation | 3.56
Cuulong Seaproducts Company | 3.56
Gallant Dachan Seafood Co., Ltd. | 3.56
Green Farms Seafood Joint Stock Company | 3.56
Hai Viet Corporation | 3.56
Investment Commerce Fisheries Corporation | 3.56
Kim Anh Company Limited, aka Kim Anh Co., Ltd. | 3.56
Minh Hai Export Frozen Seafood Processing Joint-Stock Company | 3.56
Minh Hai Joint-Stock Seafoods Processing Company | 3.56
Nha Trang Fisheries Joint Stock Company | 3.56
Nha Trang Seafoods Group:
Nha Trang Seaproduct Company, aka NT Seafoods Corporation, aka Nha Trang Seafoods—F89 Joint Stock Company, aka NTSF Seafoods Joint Stock Company, aka | 3.56
Ngoc Tri Seafood Joint Stock Company | 3.56
Phuong Nam Foodstuff Corp. | 3.56
Quang Minh Seafood Co., Ltd. | 3.56
Quoc Viet Seaproducts Processing Trading and Import-Export Co., Ltd. | 3.56
Sao Ta Foods Joint Stock Company, aka Fimex VN, aka Saota Seafood Factory | 3.56
Seaprimexco Vietnam | 3.56
Taika Seafood Corporation | 3.56
Thong Thuan Company Limited, aka T&T Co., Ltd | 3.56
Thuan Phuoc Seafoods and Trading Corporation | 3.56
Trong Nhan Seafood Company Limited | 3.56
UTXI Aquatic Products Processing Corporation, aka Hoang Phuong Seafood Factory, aka Hoang Phong Seafood Factory | 3.56
Viet Foods Co., Ltd. | 3.56
Vietnam Clean Seafood Corporation | 3.56
Viet I-Mei Frozen Foods Co., Ltd. | 3.56

Disclosure and Public Comment

The Department will disclose the calculations used in our analysis to parties in this review within five days of the date of publication of this notice. Pursuant to 19 CFR 351.309(c)(1)(ii), interested parties may submit case briefs no later than 30 days after the publication of these preliminary results, and rebuttal comments within five days after the time limit for filing case briefs. Parties who submit case briefs or rebuttal briefs are requested to submit with the argument: (1) A statement of the issue; (2) a brief summary of the argument; and (3) a table of authorities.¹¹ Rebuttal briefs must be limited to issues raised in the case briefs.¹²

¹¹ See 19 CFR 351.309(c) and (d).

¹² See 19 CFR 351.309(d)(2).

Pursuant to 19 CFR 351.310(c), interested parties who wish to request a hearing must submit a written request to the Assistant Secretary for Enforcement and Compliance within 30 days of the date of publication of this notice. Requests should contain: (1) The party's name, address and telephone number; (2) the number of participants; and (3) a list of issues parties intend to discuss. Issues raised in the hearing will be limited to those raised in the respective case and rebuttal briefs. If a request for a hearing is made, the Department intends to hold the hearing at the U.S. Department of Commerce, 1401 Constitution Avenue NW., Washington, DC 20230, at a date and time to be determined.¹³ Parties should confirm by telephone the date, time, and location of the hearing two days before the scheduled date. Interested parties are invited to comment on the preliminary results of this review.

¹³ See 19 CFR 351.310(d).

The Department intends to issue the final results of this administrative review, including the results of our analysis of issues raised in the written comments, within 120 days of publication of these preliminary results in the Federal Register.

Assessment Rates

Upon issuance of the final results, the Department will determine, and CBP shall assess, antidumping duties on all appropriate entries covered by this review.¹⁴ The Department intends to issue assessment instructions to CBP 15 days after the publication date of the final results of this review. For any individually examined respondent whose weighted average dumping margin is above de minimis (i.e., is 0.50 percent or more) in the final results of this review, the Department will calculate importer-specific assessment rates on the basis of the ratio of the total amount of dumping calculated for the importer's examined sales and the total entered value of sales, in accordance with 19 CFR 351.212(b)(1).¹⁵ We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties. For the final results, if we continue to treat the 51 companies identified above as part of the Vietnam-wide entity, we will instruct CBP to apply an ad valorem assessment rate of 25.76 percent to all entries of subject merchandise during the POR which were produced and/or exported by those companies.

¹⁴ See 19 CFR 351.212(b).

¹⁵ In these preliminary results, the Department applied the assessment rate calculation method adopted in Antidumping Proceedings: Calculation of the Weighted-Average Dumping Margin and Assessment Rate in Certain Antidumping Proceedings; Final Modification, 77 FR 8101 (February 14, 2012).

The final results of this review shall be the basis for the assessment of antidumping duties on entries of merchandise covered by the final results of this review and for future deposits of estimated duties, where applicable.

Cash Deposit Requirements

The following cash deposit requirements will be effective upon publication of the final results of this administrative review for shipments of the subject merchandise from Vietnam entered, or withdrawn from warehouse, for consumption on or after the publication date, as provided by sections 751(a)(2)(C) of the Act: (1) For the companies listed above, which have a separate rate, the cash deposit rate will be that established in the final results of this review (except, if the rate is zero or de minimis, then zero cash deposit will be required); (2) for previously investigated or reviewed Vietnam and non-Vietnam exporters not listed above that received a separate rate in a prior segment of this proceeding, the cash deposit rate will continue to be the existing exporter-specific rate; (3) for all Vietnam exporters of subject merchandise that have not been found to be entitled to a separate rate, the cash deposit rate will be the existing rate for the Vietnam-wide entity of 25.76 percent; and (4) for all non-Vietnam exporters of subject merchandise which have not received their own rate, the cash deposit rate will be the rate applicable to the Vietnam exporter that supplied that non-Vietnam exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This determination is issued and published in accordance with sections 751(a)(1) and 777(i)(1) of the Act and 19 CFR 351.221(b)(4).

Dated: March 3, 2016.
Paul Piquado,
Assistant Secretary for Enforcement and Compliance.

Appendix I

List of Topics Discussed in the Preliminary Decision Memorandum

1. Summary

2. Background

3. Extension of Preliminary Results

4. Respondent Selection

5. Scope of the Order

6. Partial Rescission of Review

7. Preliminary Determination of No Shipments

8. Non-Market Economy Country

9. Separate Rates

10. Separate Rate Calculation

11. Vietnam-Wide Entity

12. Surrogate Country and Surrogate Value Data

a. Surrogate Country

b. Economic Comparability

c. Significant Producers of Comparable Merchandise

d. Data Availability

e. Public Availability and Broad-Market Average

f. Specificity

g. Contemporaneity and Tax and Duty Exclusive

13. Date of Sale

14. Comparisons to Normal Value

a. Determination of Comparison Method

b. Results of the Differential Pricing Analysis

15. U.S. Price

a. Export Price

b. Constructed Export Price

16. Normal Value

a. Exclusion Requests

17. Factor Valuations

18. Currency Conversion

19. Verification

20. Conclusion

Appendix II

Companies Subject to Review Determined To Be Part of the Vietnam-Wide Entity

1. Amanda Foods (Vietnam) Ltd. Ngoc Tri Seafood Company (Amanda's affiliate)

2. Amanda Seafood Co., Ltd.

3. An Giang Coffee JSC

4. Anvifish Joint Stock Co.

5. Asia Food Stuffs Import Export Co., Ltd.

6. B.O.P. Limited Co.

7. Binh An Seafood Joint Stock Company

8. Can Tho Agricultural and Animal Product Import Export Company (“CATACO”)

Can Tho Agricultural and Animal Products Imex Company

Can Tho Agricultural and Animal Products Import Export Company (“CATACO”)

Can Tho Agricultural Products

Can Tho Agricultural Products

9. Can Tho Import Export Seafood Joint Stock Company (CASEAMEX)

10. Cau Tre Enterprise (C. T. E.)

11. Cautre Export Goods Processing Joint Stock Company

12. CL Fish Co., Ltd. (Cuu Long Fish Company)

13. Danang Seaproducts Import Export Corporation (“Seaprodex Danang”)

Danang Seaproducts Import-Export Corporation (“Seaprodex Danang”) (and its affiliates)

Danang Seaproducts Import-Export Corporation (and its affiliate, Tho Quang Seafood Processing and Export Company) (collectively “Seaprodex Danang”)

Seaprodex Danang

Tho Quang Co.

Tho Quang Seafood Processing and Export Company

Frozen Seafoods Factory No. 32 (Tho Quang Seafood Processing and Export Company)

14. D & N Foods Processing (Danang Company Ltd.)

15. Duy Dai Corporation

16. Gallant Ocean (Quang Ngai) Co., Ltd.

17. Gn Foods

18. Hai Thanh Food Company Ltd.

19. Hai Vuong Co., Ltd.

20. Han An Trading Service Co., Ltd.

21. Hoang Hai Company Ltd.

22. Hua Heong Food Industries Vietnam Co. Ltd.

23. Huynh Huong Seafood Processing (Huynh Houng Trading and Import Export Joint Stock Company)

24. Interfood Shareholding Co.

25. Khanh Loi Seafood Factory

26. Kien Long Seafoods Co. Ltd.

27. Luan Vo Fishery Co., Ltd.

28. Minh Chau Imp. Exp. Seafood Processing Co., Ltd.

29. Minh Cuong Seafood Import Export Frozen Processing Joint Stock Company (“Minh Cuong Seafood”)

30. Mp Consol Co., Ltd.

31. Ngoc Chau Co., Ltd. and/or Ngoc Chau Seafood Processing Company

32. Ngoc Sinh

Ngoc Sinh Fisheries

Ngoc Sinh Private Enterprises

Ngoc Sinh Seafood Processing Company

Ngoc Sinh Seafood Trading & Processing Enterprise

Ngoc Sinh Seafoods

33. Phu Cuong Jostoco Corp.

Phu Cuong Jostoco Seafood Corporation

34. Quang Ninh Export Aquatic Products Processing Factory

35. Quang Ninh Seaproducts Factory

36. Quoc Ai Seafood Processing Import Export Co., Ltd.

37. S.R.V. Freight Services Co., Ltd.

38. Sustainable Seafood

39. Tan Thanh Loi Frozen Food Co., Ltd.

40. Thanh Doan Seaproducts Import & Export Processing Joint-Stock Company (THADIMEXCO)

41. Thanh Hung Frozen Seafood Processing Import Export Co., Ltd.

42. Thanh Tri Seafood Processing Co. Ltd.

43. Thinh Hung Co., Ltd.

44. Tien Tien Garment Joint Stock Company

45. Tithi Co., Ltd.

46. Trang Khan Seafood Co., Ltd.

47. Viet Cuong Seafood Processing Import Export Joint-Stock Company

48. Vietnam Fish One Co., Ltd.

Viet Hai Seafood Co., Ltd.

Vietnam Fish-One Co., Ltd. (“Fish One”) (Viet Hai Seafood Co., Ltd.)

49. Vietnam Northern Viking Technologies Co. Ltd.

50. Vinatex Danang

51. Vinh Loi Import Export Company (“VIMEX”)

Vinh Loi Import Export Company (“Vimexco”)

[FR Doc. 2016-05406 Filed 3-9-16; 8:45 am]

BILLING CODE 3510-DS-P